NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (#10719).

Date/Time: Tuesday, January 22, 2002, 8 am to 5 pm PST.

Place: Caltech's Center for Advanced Computing Research, Pasadena, California in room 120 of the Powell-Booth Laboratory for Computational Science, and Room 1150, National Science Foundation, 4201 Wilson Boulevard, Arlington, VA, and on the Access Grid, Lucky Labrador Virtual Venue.

Type of Meeting: Open Meeting. The meeting will also involve the use of the Access Grid to interview witness. Persons wishing to attend the meeting at NSF should contact Richard Hilderbrandt to arrange for a visitor's pass. Persons wishing to attend the meeting at Caltech in Pasadena should contact Paul Messina for information. Persons wishing to watch the proceedings through the use of the Access Grid are invited to join the meeting in the Lucky Labrador Virtual Venue.

Contact Persons: Dr. Richard Hilderbrandt, Program Director, Division of Advanced Computational Infrastructure and Research, Suite 1122, National Science Foundation, 4201 Wilson Boulevard, Arlington, VA 22230, Tel: (703) 292-7093, e-mail: rhilderb@nsf.gov. Paul Messina, Director, Center for Advanced Computing Research, Mail Code 158-79, 1200 E. California Blvd., California Institute of Technology, Pasadena, CA 91125. Tel: (626) 395-3907, e-mail: messina@cacr.caltech.edu.

Purpose of Meeting: To obtain testimony from expert witnesses to pertinent to the preparation of a report to the National Science Foundation concerning the broad topic of advanced cyberinfrastructure and the evaluation of the existing Partnerships for Advanced Computational Infrastructure.

Agenda (all times PST):

Tuesday, 22 January 2002

8-12:30 am—In-Person and Access Grid Testimony (8 people)

12:30-1:30 pm—Lunch

1:30-5 pm—In-Person and Access Grid Testimony (7 people)

Dated: January 2, 2002.
Susanne Bolton,
Committee Management Officer.

[FR Doc. 02-289 Filed 1-4-02; 8:45 am]

BILLING CODE 7555-01-M